DEPARTMENT OF HEALTH AND HUMAN SERVICES

Health Care Financing Administration

[Document Identifier: HCFA-10030]

Agency Information Collection Activities: Proposed Collection; Comment Request

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection; Title of Information Collection: National Medicare Practitioner and Provider Survey; Form No.: HCFA-10030 (OMB# 0938-NEW); Use: 1. Health Care Financing Administration (HCFA) Program Safeguard Provider Education Project (Contract # 500-99-0013, Task Order 00001)—New

HCFA is conducting a national assessment of Medicare practitioner and provider (hereinafter referred to collectively as providers) educational needs. The purpose of the needs assessment is to obtain information about the education or training related to Medicare claims submission that is required by providers to increase their rate of correct first-time submission of Medicare claims. Specifically, the needs assessment survey will seek information about: (1) What providers need to know about accurate claims submission, and (2) what they believe would be the best methods for obtaining that information.

Responses will be gathered from a random sample of fee-for-service providers representing both Medicare Part A (hospital-based outpatient clinics, emergency rooms, and ambulatory surgery units; home health care agencies; and skilled nursing facilities) and Medicare Part B (physician and non-physician) providers. The information gathered by the needs assessment survey will allow HCFA to develop effective education and training tools and resources that address identified provider needs and focus on the topics that providers indicated were most important for improving accuracy of claims submissions.

The needs assessment survey will be administered one time only. It will be mailed to 9,000 individual and organizational providers nationwide that render Medicare services. HCFA anticipates receiving approximately 7,200 responses. As an alternative to completing the paper survey, respondents will have the option of completing the survey electronically using a computer with an Internet connection. A toll-free telephone line will be available to respondents who have questions or need help completing the survey. HCFA is collaborating with national and State medical societies and organizations to make providers aware of the survey and the importance of their participation in the needs assessment process. Publicity about the survey prior to its dissemination, along with a follow-up mail reminder and conduct of follow-up phone calls to respondents after its dissemination, will increase the survey response rate. Burden estimates are as follows:

Respondents | Estimated Number of respondents | Number of responses per respondent | Average burden/ response (in hours)
Survey | 7,200 | 1 | ½

Total Burden: 3,600 hours (at ½ hour each).

Total Cost to Respondents: $396,000 ($55 per respondent at an estimated $110 hourly salary).

As a part of the Medicare Integrity Program (MIP), HCFA is seeking to increase the incidence of correct Medicare claims submitted by health care providers. Reduction of incorrect claims will reduce the administrative costs associated with review, return, and correction of claims prior to reimbursement and will increase the ability to make timely payments to providers. By making effective education and training resources available, HCFA will help providers improve their correct submission rates. Results of this survey will provide a sound foundation for the development of those resources.;

Frequency: Other: One-time only; Affected Public: Business or other for-profit; Number of Respondents: 9,000; Total Annual Responses: 9,000; Total Annual Hours: 3,600.

To obtain copies of the supporting statement and any related forms for the proposed paperwork collections referenced above, access HCFA's Web Site address at http://www.hcfa.gov/regs/prdact95.htm, or E-mail your request, including your address, phone number, OMB number, and HCFA document identifier, to MKlein@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, HCFA-10030, Room N2-14-26, 7500 Security Boulevard, Baltimore, Maryland 21244-1850.

Dated: January 23, 2001.
John P. Burke III,
HCFA Reports Clearance Officer, HCFA Office of Information Services, Security and Standards Group, Division of HCFA Enterprise Standards.

[FR Doc. 01-2798 Filed 2-1-01; 8:45 am]

BILLING CODE 4120-03-P